DEPARTMENT OF THE INTERIOR

Bureau of Land Management

[AK-930-02-1610-PN]

Southcentral Alaska Subsistence Regional Advisory Council Meeting

AGENCY: Bureau of Land Management, Interior.

ACTION: Notice of meeting.

SUMMARY: This notice informs the public that the Southcentral Alaska Subsistence Regional Advisory Council will hold a public meeting on July 27, 2005. The public is invited to participate and to provide oral testimony.

DATES: July 27, 2005.

FOR FURTHER INFORMATION CONTACT: Glennallen Field Office, P.O. Box 147, Glennallen, Alaska 99588; phone (907) 822-3217. For questions related to subsistence management issues on Bureau of Land Management lands, inquiries may also be directed to Taylor Brelsford, Subsistence Coordinator, Alaska State Office, 222 West 7th Avenue, #13, Anchorage, Alaska 99513; phone (907) 271-5806.

SUPPLEMENTARY INFORMATION: Regional Council discussion during the meeting will be devoted to the review and recommendation of the East Alaska Draft Resource Management Plan and Environmental Impact Statement.

Dated: June 7, 2005.
Henri R. Bisson,
State Director.

[FR Doc. 05-11774 Filed 6-14-05; 8:45 am]

BILLING CODE 4310-JA-P